DEPARTMENT OF COMMERCE

National Oceanic and Atmospheric Administration

50 CFR Parts 253 and 600

[Docket No. 080228332-81199-01]

RIN 0648-AW38

Magnuson-Stevens Act Provisions; Interjurisdictional Fisheries Act; Disaster Assistance Programs; Fisheries Assistance Programs

AGENCY: National Marine Fisheries Service (NMFS), National Oceanic and Atmospheric Administration (NOAA), Commerce.

ACTION: Proposed rule; withdrawal.

SUMMARY: NMFS withdraws a proposed rule for proposed regulations governing the requests for determinations of fishery resource disasters as a basis for acquiring disaster assistance, which was published on January 15, 2009. Instead of going forward with a final rule directly resulting from the 2009 proposed rule, NMFS issued an internal policy on June 16, 2011.

DATES: The proposed rule published on January 15, 2009 (74 FR 2467) is withdrawn as of May 30, 2013.

FOR FURTHER INFORMATION CONTACT: Christopher L. Wright, Fishery Policy Analyst, 301-427-8570, or via email chris.wright@noaa.gov.

SUPPLEMENTARY INFORMATION: In accordance with the Magnuson-Stevens Fishery Conservation and Management Act (MSA) and the Interjurisdictional Fisheries Act (IFA), NMFS (on behalf of the Secretary of Commerce) proposed regulations that were to govern the requests for determinations of fishery resource disasters as a basis for acquiring potential disaster assistance. The proposed regulations would have established definitions, characteristics of commercial fishery failures, fishery resource disasters, serious disruptions affecting future production, and harm incurred by fishermen. It also established requirements for initiating a review by NMFS, and the administrative process it would follow in response to such requests. The intended result of the proposed procedures and requirements was to clarify and interpret the fishery disaster assistance provisions of the MSA and the IFA through rulemaking and, thereby, ensure consistency and facilitate the processing of requests.

On June 16, 2011, NMFS issued an internal policy for determinations of fishery resource disasters as a basis for acquiring potential disaster assistance titled: POLICY Guidance for Disaster Assistance Under Magnuson-Stevens Act 312(a) and Interjurisdictional Fisheries Act 308(b) and 308(d), http://www.nmfs.noaa.gov/sfa/sf3/disaster_policy2011.pdf. The purpose of this document is to provide guidance for evaluating requests for fisheries disaster relief under the provisions of section 312(a) and 315 of the MSA and sections 308(b) and 308(d) of the IFA.

Authority: 16 U.S.C 1801 et seq.

Dated: May 24, 2013.
Alan D. Risenhoover,
Director, Office of Sustainable Fisheries, Performing the functions and duties of the Deputy Assistant Administrator for Regulatory Programs, National Marine Fisheries Service.

[FR Doc. 2013-12860 Filed 5-29-13; 8:45 am]

BILLING CODE 3510-22-P